DEPARTMENT OF THE INTERIOR

Bureau of Land Management

[BLM_UT_FRN_MO4500183472]

Notice of Segregation of Public Land for the Star Range Solar Project, Beaver County, Utah

AGENCY: Bureau of Land Management, Department of the Interior.

ACTION: Notice of segregation.

SUMMARY: Through this notice the Bureau of Land Management (BLM) is segregating public lands included in the right-of-way (ROW) application for the Star Range Solar Project from appropriation under the public land laws, including the Mining Law, but not the Mineral Leasing Act or Material Sales Act, for a period of 2 years from the date of publication of this notice, subject to valid existing rights. This segregation is to allow for the orderly administration of the public lands to facilitate consideration of development of renewable energy resources. The public lands segregated by this notice total 5,158.56 acres.

DATES: This segregation for the lands identified in this notice is effective on November 29, 2024.

FOR FURTHER INFORMATION CONTACT: Lennie McConnell, Renewable Energy Project Manager, telephone: (435) 865-3052; email: lmcconnell@blm.gov; address: Bureau of Land Management, Cedar City Field Office, 176 E DL Sargent Dr., Cedar City, UT 84721. Individuals in the United States who are deaf, deafblind, hard of hearing, or have a speech disability may dial 711 (TTY, TDD, or TeleBraille) to access telecommunications relay services for contracting Mr. McConnell. Individuals outside the United States should use the relay services offered within their country to make international calls to the point-of-contact in the United States.

SUPPLEMENTARY INFORMATION: Regulations found at 43 CFR 2091.3-1(e) and 2804.25(f) allow the BLM to temporarily segregate public lands within a ROW application area for solar energy development from the operation of the public land laws, including the Mining Law, by publication of a Federal Register notice. The BLM uses this temporary segregation authority to preserve its ability to approve, approve with modifications, or deny the proposed ROW, and to facilitate the orderly administration of the public lands. This temporary segregation is subject to valid existing rights, including existing valid mining claims located before this segregation notice. Licenses, permits, cooperative agreements, or discretionary land use authorizations of a temporary nature that would not impact lands identified in this notice may be allowed with the approval of an authorized officer of the BLM during the segregation period. The lands segregated under this notice are legally described as follows:

Star Range Solar Project—UTUT106270777

Salt Lake Meridian, Utah

T. 29 S., R. 11 W.,

Sec. 7, SE¼NE¼, SE¼SW¼, and SE¼;

Sec. 8;

Sec. 9, W½NE¼, and W½;

secs. 17 and 18;

Sec. 19, E½;

Sec. 20, W½NE¼, W½, and NW¼SE¼;

Sec. 29, W½NW¼;

Sec. 30, lots 1 thru 4, NE¼, E½NW¼, E½SW¼, N½SE¼, and SW¼SE¼.

T. 29 S., R 12 W.,

Sec. 13, SE¼NE¼, NE¼SE¼, and S½SE¼;

Sec. 24, E½, and E½SW¼;

Sec. 25, E½, NE¼NW¼, S½NW¼, and SW¼.

The areas described contains 5,158.56 acres, according to the official plat of the survey of the said lands, on file with the BLM.

As provided in the regulations, the segregation of lands in this notice will not exceed 2 years from the date of publication unless extended for an additional 2 years through publication of a new notice in the Federal Register. The segregation period will terminate and the lands will automatically reopen to appropriation under the public land laws, including the Mining Law, at the earliest of the following dates: upon issuance of a decision by the authorized officer granting, granting with modifications, or denying the application for a ROW; without further administrative action at the end of the segregation period stated in the Federal Register notice initiating the segregation; or upon publication of a Federal Register notice terminating the segregation and opening the lands.

Upon termination of the segregation of these lands, all lands subject to this segregation would automatically reopen to appropriation under the public land laws, including the Mining Law.

Authority: 43 CFR 2091.3-1(e) and 43 CFR 2804.25(f).

Matthew Preston,
Acting State Director.

[FR Doc. 2024-28054 Filed 11-27-24; 8:45 am]

BILLING CODE 4310-32-P